DEPARTMENT OF THE INTERIOR

National Park Service

[N6361; NPS-WASO-NAGPRA-NPS0040608; PPWOCRADN0-PCU00RP14.R50000]

Notice of Inventory Completion: Tennessee Department of Environment and Conservation, Division of Archaeology, Nashville, TN

AGENCY: National Park Service, Interior.

ACTION: Notice.

SUMMARY: In accordance with the Native American Graves Protection and Repatriation Act (NAGPRA), the Tennessee Department of Environment and Conservation, Division of Archaeology (TDEC-DOA) has completed an inventory of human remains and associated funerary objects from Franklin, Giles, Lawrence, and Williamson Counties, Tennessee and has determined that there is a cultural affiliation between the human remains and associated funerary objects and Indian Tribes or Native Hawaiian organizations in this notice.

DATES: Repatriation of the human remains and associated funerary objects in this notice may occur on or after August 28, 2025.

ADDRESSES: Send written requests for repatriation of the human remains and associated funerary objects in this notice to Phillip R. Hodge, Tennessee Department of Environment and Conservation, Division of Archaeology (TDEC-DOA), 1216 Foster Avenue, Cole Building #3, Nashville, TN 37243, telephone (615) 626-2025, email Phil.Hodge@tn.gov.

SUPPLEMENTARY INFORMATION: This notice is published as part of the National Park Service's administrative responsibilities under NAGPRA. The determinations in this notice are the sole responsibility of the TDEC-DOA, and additional information on the determinations in this notice, including the results of consultation, can be found in its inventory or related records. The National Park Service is not responsible for the determinations in this notice.

Abstract of Information Available

Human remains representing, at least, 15 individuals have been identified. The 12 associated funerary objects are one partial ceramic vessel, four faunal remains, six lithic bifaces, and one lot of faunal material.

Unknown Site, Franklin County, TN

Human remains representing, at least, one individual. These ancestral remains were donated to TDEC-DOA in 2022 by faculty of Sewanee, The University of the South. No provenience data is known other than a notation that they are from the “Yeatman collection.” No additional information is available regarding the circumstances of collection or location of origin. There is no known exposure to hazardous substances or treatments.

Site 40GL68, Giles County, TN

Human remains representing, at least, four individuals. The four associated funerary objects are four faunal remains. These ancestral remains were donated to TDEC-DOA by faculty of East Carolina State University. No information is available regarding the collection or donation of these materials. There is no known exposure to hazardous substances or treatments.

Unknown Site, Lawrence County, TN

Human remains representing, at least, two individuals. The seven associated funerary objects consist of six lithic bifaces and one lot of faunal material. These materials were seized in a raid by the City of Loretto police department and donated to TDEC-DOA in 2006. No other information is available regarding their original location or the circumstances of collection. There is no known exposure to hazardous substances or treatments.

Site 40WM255, Williamson County, TN

Human remains representing, at least, one individual. The one associated funerary object consists of a partial Mississippian period ceramic jar. These materials were excavated by a private consultant in 1998 or 1999, and seized by TDEC-DOA from a storage locker in December 2009. There is no known exposure to hazardous substances or treatments.

Site 40WM342, Williamson County, TN

Human remains representing, at least, one individual. No information is available regarding the acquisition of these remans. There is no known exposure to hazardous substances or treatments.

Unknown Sites, Williamson County, TN

Human remains of at least one individual from the collection of the Tennessee State Museum were excavated by a private individual from a stone box grave in Brentwood, Tennessee and transferred to the TDEC-DOA in 1995.

Human remains of at least one individual were found in an estate collection and donated to TDEC-DOA. According to the donor, they were collected along the Harpeth River in Williamson County.

Human remains of at least two individuals were excavated by a private individual in the 1930s and donated to TDEC-DOA by the next of kin.

Human remains of at least two individuals were donated to TDEC-DOA with information on the box indicating that they were removed along the Harpeth River, in Williamson County, Tennessee. No record exists as to the timing, donor, or circumstances of acquisition. There is no known exposure to hazardous substances or treatments.

Cultural Affiliation

Based on the information available and the results of consultation, cultural affiliation is reasonably identified by the geographical location or acquisition history of the human remains and associated funerary objects described in this notice.

Determinations

The TDEC-DOA has determined that:

• The human remains described in this notice represent the physical remains of 15 individuals of Native American ancestry.

• The 12 objects described in this notice are reasonably believed to have been placed intentionally with or near individual human remains at the time of death or later as part of the death rite or ceremony.

• There is a connection between the human remains and associated funerary objects described in this notice and the Absentee-Shawnee Tribe of Indians of Oklahoma; Alabama-Coushatta Tribe of Texas; Cherokee Nation; Eastern Band of Cherokee Indians; Eastern Shawnee Tribe of Oklahoma; Poarch Band of Creek Indians; Shawnee Tribe; The Chickasaw Nation; The Muscogee (Creek) Nation; Thlopthlocco Tribal Town; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 28, 2025. If competing requests for repatriation are received, the TDEC-DOA must determine the most appropriate requestor prior to repatriation. Requests for joint repatriation of the human remains and associated funerary objects are considered a single request and not competing requests. The TDEC-DOA is responsible for sending a copy of this notice to the Indian Tribes and Native Hawaiian organizations identified in this notice.

Authority: Native American Graves Protection and Repatriation Act, 25 U.S.C. 3003, and the implementing regulations, 43 CFR 10.10.

Dated: July 9, 2025.
Melanie O'Brien,
Manager, National NAGPRA Program.

[FR Doc. 2025-14275 Filed 7-28-25; 8:45 am]

BILLING CODE 4312-52-P